DEPARTMENT OF COMMERCE

Foreign-Trade Zones Board

[Docket 28-2007, Docket 29-2007, Docket 30-2007]

Foreign-Trade Zone 158—Vicksburg/Jackson, MS; Requests for Manufacturing Authority; Extension of Comment Period; Lane Furniture Industries, Inc.; H.M. Richards, Inc.; Bauhaus USA, Inc. (Upholstered Furniture)

Based on a request from an interested party, the comment period for the applications submitted to the Foreign-Trade Zones Board (the Board) by Greater Mississippi Foreign-Trade Zone, Inc. (72 FR 43232-43233, 8-3-2007), grantee of FTZ 158, on behalf of Lane Furniture Industries, Inc., H.M. Richards, Inc., and, Bauhaus USA, Inc., requesting authority to manufacture upholstered furniture and related parts under FTZ procedures within FTZ 158 has been extended to November 1, 2007 to allow interested parties additional time in which to comment. Rebuttal comments may be submitted during the subsequent 15 day period, until November 16, 2007.

Submissions (original and 3 copies) shall be addressed to the Board's Executive Secretary at the following address: Office of the Executive Secretary, Room 2111, U.S. Department of Commerce, 1401 Constitution Avenue, NW., Washington, DC 20230-0002. For further information, contact Pierre Duy, examiner, at: pierre_duy@ita.doc.gov, or (202) 482-1378.

Dated: September 28, 2007.
Andrew McGilvray,
Executive Secretary.

[FR Doc. E7-19658 Filed 10-3-07; 8:45 am]

BILLING CODE 3510-DS-P